DEPARTMENT OF ENERGY

Federal Energy Regulatory Commission

Combined Notice of Filings #2

Take notice that the Commission received the following electric corporate filings:

Docket Numbers: EC18-12-000.

Applicants: Public Service Company of New Hampshire, Granite Shore Power LLC.

Description: Supplement to October 27, 2017 Joint Application of Public Service Company of New Hampshire, et al. for Approval of the Disposition of Jurisdictional Facilities Under Section 203 of the FPA.

Filed Date: 10/31/17.

Accession Number: 20171031-5384.

Comments Due: 5 p.m. ET 12/11/17.

Take notice that the Commission received the following electric rate filings:

Docket Numbers: ER18-206-000.

Applicants: Southern Partners, INC.

Description: Baseline eTariff Filing: Southern Partners, INC MBR Application to be effective 11/1/2017.

Filed Date: 11/1/17.

Accession Number: 20171101-5099.

Comments Due: 5 p.m. ET 11/22/17.

Docket Numbers: ER18-207-000.

Applicants: Duke Energy Progress, LLC.

Description: § 205(d) Rate Filing: DEP-City of Camden First Amended and Restated RS No. 197 to be effective 1/1/2017.

Filed Date: 11/1/17.

Accession Number: 20171101-5114.

Comments Due: 5 p.m. ET 11/22/17.

Docket Numbers: ER18-208-000.

Applicants: Southwest Power Pool, Inc.

Description: § 205(d) Rate Filing: 2891R3 AECC and Entergy Arkansas Attachment AO to be effective 1/1/2018.

Filed Date: 11/1/17.

Accession Number: 20171101-5118.

Comments Due: 5 p.m. ET 11/22/17.

Docket Numbers: ER18-211-000.

Applicants: San Diego Gas & Electric Company.

Description: § 205(d) Rate Filing: 2018 SDGE TACBAA Update to Transmission Owner Tariff Filing to be effective 1/1/2018.

Filed Date: 11/1/17.

Accession Number: 20171101-5161.

Comments Due: 5 p.m. ET 11/22/17.

Docket Numbers: ER18-213-000.

Applicants: Pittsfield Generating Company, L P.

Description: Compliance filing: Re-file Baseline Tariff to be effective 12/31/9998.

Filed Date: 11/1/17.

Accession Number: 20171101-5168.

Comments Due: 5 p.m. ET 11/22/17.

Docket Numbers: ER18-214-000.

Applicants: Consolidated Edison Company of New York, Inc.

Description: § 205(d) Rate Filing: Con Edison VDER filing 11-1-2017 to be effective 11/1/2017.

Filed Date: 11/1/17.

Accession Number: 20171101-5185.

Comments Due: 5 p.m. ET 11/22/17.

Docket Numbers: ER18-215-000.

Applicants: Interstate Power and Light Company.

Description: § 205(d) Rate Filing: Interstate Power and Light Company Changes in Wholesale Formula Rates to be effective 1/1/2018.

Filed Date: 11/1/17.

Accession Number: 20171101-5198.

Comments Due: 5 p.m. ET 11/22/17.

Docket Numbers: ER18-216-000.

Applicants: Wisconsin Power and Light Company.

Description: § 205(d) Rate Filing: Wisconsin Power and Light Company Wholesale Formula Rate Changes to be effective 1/1/2018.

Filed Date: 11/1/17.

Accession Number: 20171101-5199.

Comments Due: 5 p.m. ET 11/22/17.

Docket Numbers: ER18-217-000.

Applicants: New York State Electric & Gas Corporation.

Description: § 205(d) Rate Filing: NYSEG-DCEC Attachment C Annual Update to be effective 1/1/2018.

Filed Date: 11/1/17.

Accession Number: 20171101-5203.

Comments Due: 5 p.m. ET 11/22/17.

Docket Numbers: ER18-218-000.

Applicants: Wisconsin Public Service Corporation.

Description: § 205(d) Rate Filing: Filing of a Wholesale Distribution Agreement w/Stratford to be effective 1/1/2018.

Filed Date: 11/1/17.

Accession Number: 20171101-5218.

Comments Due: 5 p.m. ET 11/22/17.

Docket Numbers: ER18-219-000.

Applicants: Wisconsin Public Service Corporation.

Description: § 205(d) Rate Filing: Filing of a Wholesale Distribution Agreement w/ WEPCo to be effective 1/1/2018.

Filed Date: 11/1/17.

Accession Number: 20171101-5232.

Comments Due: 5 p.m. ET 11/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2017.
Nathaniel J. Davis, Sr.,
Deputy Secretary.

[FR Doc. 2017-24150 Filed 11-6-17; 8:45 am]

BILLING CODE 6717-01-P